DEPARTMENT OF HEALTH AND HUMAN SERVICES

Administration for Community Living

Agency Information Collection Activities; Proposed Collection; Public Comment Request; Revision of a Currently Approved Information Collection (OMB Approval Number 0985-0042); State Grant for Assistive Technology Program Annual Progress Report (AT APR)

AGENCY: Administration for Community Living, Department of Health and Human Services.

ACTION: Notice.

SUMMARY: The Administration for Community Living (ACL) is announcing that the proposed collection of information listed above has been submitted to the Office of Management and Budget (OMB) for review and clearance as required under the Paperwork Reduction Act of 1995 (the PRA). This 30-day notice requests comments on the information collection requirements related to a proposed Revision of a Currently Approved Information Collection (ICR-Rev). The revision would allow ACL to continue to collect information necessary to determine grantee compliance with Section 4 of the Assistive Technology Act of 1998, as Amended (AT Act).

DATES: Submit written comments on the collection of information by November 3, 2017.

ADDRESSES: Submit written comments on the collection of information: by fax at (202) 395-5806 or by email to OIRA_submission@omb.eop.gov, Attn: OMB Desk Officer for ACL.

FOR FURTHER INFORMATION CONTACT: Robert Groenendaal at (202) 795-7356 or robert.groenendaal@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval. The proposed data collection represents a revision of a currently approved information collection. In order to comply with the above requirement, ACL is requesting approval of an update of a previously approved collection, the State Grants for Assistive Technology Program Annual Progress Report (AT APR), formerly the 572 Report (0985-0042).

The AT APR is submitted annually by all State Grants for AT programs receiving formula funds under Section 4 of the Assistive Technology Act of 1998, as Amended (AT Act). The AT APR is used by ACL to assess grantees' compliance with Section 4 of the AT Act, with section 1329 of the Code of Federal Regulations, and with applicable provisions of the HHS regulations at 45 CFR part 75. The AT APR enables ACL to analyze qualitative and quantitative data to track performance outcomes and efficiency measures of the State Grants for AT programs; support budget requests; comply with the GPRA Modernization Act of 2010 (GPRAMA) reporting requirements; provide national benchmark information; and inform program development and management activities. This information collection has 3 pieces: (a) Web-based system that collects data from states; (b) performance measure survey on the access and acquisition of AT devices and services that states collect from individuals; and, (c) customer satisfaction survey that states collect from individuals on their experiences accessing and acquiring AT through the State AT program. The burden table below identifies the data collection activities for the three surveys above as well as the estimates for record keeping and entry of aggregate data. In addition to submitting a State Plan every three years, states and outlying areas are required to submit annual progress reports on their activities. The data required for these progress reports is specified in Section 4(f) of the AT Act. The State Grants for AT program conduct the following state-level and state leadership activities: State financing, device demonstration, device loans, device reutilization, training and technical assistance, public awareness, and information and referral.

Comments in Response to the 60-Day Federal Register Notice

A 60-Day notice was published in the Federal Register in Vol. 82, No. 135, pg. 32710, on July 17th, 2017. ACL received one comment from the Association of Assistive Technology Act Programs (ATAP), which represents 54 State Grant for AT programs. The comment noted that the proposed changes to the currently approved information collection were developed with extensive input of those it directly impacts, the State AT Program grantees. The revision process began over two years ago and grantees had multiple opportunities to discuss and make recommendations on the proposed changes, which were reviewed during numerous meetings with ATAP membership at national conferences and during online events. There is uniform support within the ATAP membership for the revisions.

Annual Burden Estimates

The proposed State Grants for Assistive Technology Program Annual Progress Report (AT APR) may be found on the ACL Web site at: https://www.acl.gov/about-acl/public-input. The total estimated hour burden per respondent for the proposed AT APR will decrease from the 406 hours per respondent estimated in FY 2014 to 404 hours estimated for FY 2017, an estimated reduction of two hours per respondent or 112 in total. These are in addition to reductions made during the last information collection process. The reduction in burden is a result of a data collection workgroup composed of State AT program staff that met with ACL on several occasions to suggest revisions to the current instrument. The workgroup identified minor changes in several sections of the instrument, including the reporting of state-level and state leadership activities. For example, AT Device Reassignment and Open-Ended Loan have been combined into a single line in “A. Recipient Table.” This update aligns the AT APR with the State Plan for AT structure and will streamline data reporting by grantees. A separate module has been created for all the General Information for State AT programs that is consistent between the AT APR and the State Plan for AT. Data will be entered once and from that point forward only updates will be needed, which will streamline the data entry process for grantees. The Public Awareness table with numeric data has been replaced with two narrative text boxes. Numeric data reported in this section has been historically estimated with little consistency in how data is reported between grantees. With a shift to more electronic information sharing, quantified public awareness data is difficult to report for all grantees and aggregate data is not useful. This change will allow for qualitative data that is more helpful in understanding the activities conducted. The workgroup solicited feedback from all of the grantees through face-to-face meetings and webinar presentations. The number of hours is multiplied by 56 AT State Grants programs, resulting in a total estimated hour burden of 22,624 hours.

Respondent/data collection activity | Number of respondents | Responses per respondent | Hours per response | Annual burden hours
State Grants for AT Annual Progress Report (AT APR) | 56 | 1 | 80.0 | 4,480
Performance Measure Surveys | 56 | 1 | 54.0 | 3,024
Customer Satisfaction Surveys | 56 | 1 | 54.0 | 3,024
Data Entry for the Instruments | 56 | 1 | 208.0 | 11,648
Record Keeping Burden | 56 | 1 | 8.0 | 448
Total | 56 | 1 | 404.0 | 22,624

Estimated Total Annual Burden Hours: 22,624.

Dated: September 27, 2017.
Mary Lazare,
Principal Deputy Administrator.

[FR Doc. 2017-21259 Filed 10-3-17; 8:45 am]

BILLING CODE 4154-01-P